FEDERAL COMMUNICATIONS COMMISSION

47 CFR Parts 74, 78, and 101

[GN Docket No. 82-334; WT Docket No. 00-19, RM-9418; FCC 02-218; and WT Docket No. 94-148, FCC 96-51]

Establishment of a Spectrum Utilization Policy for the Fixed and Mobile Services' Use of Certain Bands Between 947 MHz and 40 GHz; Streamline Processing of Microwave Applications in the Wireless Telecommunications Services and Telecommunications Industry Association Petition for Rulemaking; Terrestrial Microwave Fixed Radio Services

AGENCY: Federal Communications Commission.

ACTION: Correcting amendments.

SUMMARY: The Federal Communications Commission (FCC/Commission) is correcting final rules that had typographical errors that were published in three separate reports in the Federal Register. In those documents, the Commission used table 8 MHz maximum authorized bandwidth channels that had an error in various rules. This document corrects the errors.

DATES: Effective November 19, 2019.

FOR FURTHER INFORMATION CONTACT: Stephen Buenzow of the Wireless Telecommunications Bureau, Broadband Division at (717) 338-2647 or Stephen.Buenzow@fcc.gov.

SUPPLEMENTARY INFORMATION: The Commission's documents GN Docket No. 82-334, published March 9, 1987 (52 FR 7136, pages 7142 and 7144); WT Docket No. 00-19, RM-9418, FCC 02-218, published May 28, 1996 (61 FR 26677, as amended at 62 FR 4924, Feb. 3, 1997, page 4925); and WT Docket No. 94-148, FCC 96-51, published May 28, 1996 (61 FR 26677, pages 26708, 26712, and 26725) contained typographical errors. The correcting amendments in this document fix those errors. The Commission is also correcting an error in a footnote and table—Table 3—Paired Frequencies (MHz), [12.5 kHz bandwidth]. The corrected rules are §§ 74.602(i)(2), 78.18(a)(5)(ii), 101.115(b)(2), 101.147(b)(2) and 101.803(e)(2).

List of Subjects

47 CFR Part 74

Communications equipment, Radio, Television.

47 CFR Part 78

Cable television, television, Communications equipment, Radio.

47 CFR Part 101

Communications equipment, Radio.

Accordingly, 47 CFR parts 74, 78, and 101 are corrected by making the following correcting amendments:

PART 74—EXPERIMENTAL RADIO, AUXILIARY, SPECIAL BROADCAST AND OTHER PROGRAM DISTRIBUTIONAL SERVICES

1. The authority citation for part 74 continues to read as follows:

Authority: 47 U.S.C. 154, 302a, 303, 307, 309, 310, 336, and 554.

2. In § 74.602, amend the table in paragraph (i)(2) by revising the entry for “6446.0” to reads as follows:

§ 74.602 Frequency assignment.

* * * * *

(i) * * *

(2) * * *

Transmit (or receive MHz) | Receive (or transmit) (MHz)
* * * * *
6446.0 | 6496.0
* * * * *

* * * * *

PART 78—CABLE TELEVISION RELAY SERVICE

3. The authority citation for part 78 continues to read as follows:

Authority: 47 U.S.C. 152, 153, 154, 301, 303, 307, 308, 309.

4. In § 78.18, amend paragraph (a)(5)(ii) by revising entry for “6446.0” read as follows:

§ 78.18 Frequency assignment. [CORRECTION]

* * * * *

(a) * * *

(5) * * *

(ii) * * *

Transmit (or receive MHz) | Receive (or transmit) (MHz)
* * * * *
6446.0 | 6496.0
* * * * *

* * * * *

PART 101—FIXED MICROWAVE SERVICES

5. The authority citation for part 101 continues to read as follows:

Authority: 47 U.S.C. 154, 303.

6. In § 101.115, amend the table in paragraph (b)(2) by revising the text of footnote 7 to read as follows:

§ 101.115 Directional antennas.

* * * * *

(b) * * *

(2) * * *

⁷ For stations authorized or pending on April 1, 2003, the minimum radiation suppression for Category B is 35dB in the 10,550-10,680 MHz band and 36 dB in the 21,200-23,600 MHz band for discrimination angles from 100° to 180°.

* * * * *

7. In § 101.147, amend table 3 in paragraph (b)(2) by revising entry for 928.36875” and in the table in paragraph (j)(2) by revising the entry for “6446.0” to read as follows:

§ 101.147 Frequency assignments.

* * * * *

(b) * * *

(2) * * *

Table 3—Paired Frequencies (MHz)
[12.5 kHz bandwidth]
Remote transmit | Master transmit
* * * * *
928.36875 | 928.36875
* * * * *

* * * * *

(j) * * *

(2) * * *

Transmit (or receive MHz) | Receive (or transmit) (MHz)
* * * * *
6446.0 | 6496.0
* * * * *

* * * * *

8. In § 101.803, amend the table in paragraph (e)(2) by revising entry for “6446.0” to the table to read as follows:

§ 101.803 Frequencies.

* * * * *

(e) * * *

(2) * * *

Transmit (or receive MHz) | Receive (or transmit) (MHz)
* * * * *
6446.0 | 6496.0
* * * * *

Federal Communications Commission.
Marlene Dortch,
Secretary, Office of the Secretary.

[FR Doc. 2019-24669 Filed 11-18-19; 8:45 am]

BILLING CODE 6712-01-P